DEPARTMENT OF HEALTH AND HUMAN SERVICES

Administration for Children and Families

Proposed Information Collection Activity; Information Comparison With Insurance Data (OMB #0970-0342)

AGENCY: Office of Child Support Enforcement, Administration for Children and Families, HHS.

ACTION: Request for public comment.

SUMMARY: The Administration for Children and Families' (ACF) Office of Child Support Enforcement (OCSE) is requesting a 3-year extension of the currently approved Information Comparison with Insurance Data (OMB #0970-0342; Expires 1/31/2021).

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION:

Description: The Deficit Reduction Act of 2005 amended Section 452 of the Social Security Act to authorize the Secretary, through the Federal Parent Locator Service (FPLS), to conduct comparisons of information concerning individuals owing past-due child support with information maintained by insurers (or their agents) concerning insurance claims, settlements, awards, and payments. The two options to participate in the Information Comparison with Insurance Data program are (1) insurers submit information concerning claims, settlements, awards, and payments to the federal OCSE. OCSE compares it to information pertaining to parents who owe past-due support. (2) OCSE will send a file containing information about parents who owe past-due support to the insurer, or their agent, to compare with their claims, settlements, awards, and payments. The insurer or their agent sends any resulting insurance data matches to OCSE. On a daily basis, OCSE sends the results of the insurance data match in an “Insurance Match Response Record” to child support agencies responsible for collecting past-due support. The child support agencies use the insurance data matches to collect past-due support from the insurance proceeds.

Respondents: Insurers or their agents, including the U.S. Department of Labor and state agencies administering workers' compensation programs, and the Insurance Services Office.

Annual Burden Estimates
Instrument | Total number of respondents annually | Total number of annual responses per respondent | Average annual burden hours per response | Total annual burden hours
Insurance Match File: Monthly Reporting Electronically | 26 | 12 | 0.083 | 25.90
Insurance Match File: Weekly Reporting Electronically | 9 | 52 | 0.083 | 38.84
Insurance Match File: Daily Reporting Electronically | 2 | 251 | 0.083 | 41.67
Match File: Daily Reporting Manually | 108 | 251 | 0.1 | 2,710.80

Estimated Total Annual Burden Hours: 2,817.21.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 652(a)(9), which requires OCSE to operate the FPLS established by 42 U.S.C. 653(a)(1) and 42 U.S.C. 652(m), which authorizes OCSE, through the FPLS, to compare information concerning individuals owing past-due support with information maintained by insurers (or their agents) concerning insurance claims, settlements, awards, and payments, and to furnish information resulting from the data matches to the state child support agencies responsible for collecting child support from the individuals.

Mary B. Jones,
ACF/OPRE Certifying Officer.

[FR Doc. 2020-09933 Filed 5-8-20; 8:45 am]

BILLING CODE 4184-41-P